DEPARTMENT OF STATE

[Public Notice 7261]

Meeting of the United States-Oman Joint Forum on Environmental Cooperation Pursuant to the United States-Oman Memorandum of Understanding on Environmental Cooperation

ACTION: Notice of the meeting of the U.S.-Oman Joint Forum on Environmental Cooperation and request for comments.

SUMMARY: The Department of State is providing notice that the United States and Oman intend to hold a meeting of the U.S.-Oman Joint Forum on Environmental Cooperation (“Joint Forum”) in Muscat, Oman, on January 9, 2011, at a venue to be announced. The Governments created the Joint Forum in connection with the U.S.-Oman Memorandum of Understanding on Environmental Cooperation (“MOU”). If you are interested in attending, please email Abby Lindsay at LindsayA@state.gov for the specific time and place. See below under SUPPLEMENTARY INFORMATION for additional details on the background and purpose of the meeting.

During the meeting, the U.S. and Oman will present a brief history of U.S.-Oman environmental cooperation, a review of activities under the 2006-2008 Work Program, presentations on selected activities, and presentation and signature of the 2011-2014 Plan of Action. The entire meeting will be open to the public and include public question and answer sessions. The Department of State invites interested organizations and members of the public to submit written comments or suggestions regarding items to include on the agenda and to attend the meeting.

In preparing comments, we encourage submitters to refer to the following documents:

• U.S.-Oman Memorandum of Understanding on Environmental Cooperation,

• 2006-2008 Work Program Pursuant to the U.S.-Oman Memorandum of Understanding on Environmental Cooperation,

• Chapter 17 of the U.S.-Oman Free Trade Agreement,

• Final Environmental Review of the U.S.-Oman Free Trade Agreement.

These documents are available at: http://www.state.gov/g/oes/env/trade/oman/index.htm.

DATES: The U.S. and Oman will hold the Joint Forum meeting on January 9, 2011, in Muscat, Oman. If you are interested in attending, please email Abby Lindsay at LindsayA@state.gov for the specific time and place. To ensure timely consideration, please submit comments and suggestions in writing no later than January 3, 2011.

ADDRESSES: Please submit written comments or suggestions via e-mail (LindsayA@state.gov) or fax ((202) 647-5947) to Abby Lindsay, Office of Environmental Policy, Bureau of Oceans and International Environmental and Scientific Affairs, U.S. Department of State, with the subject line “U.S.-Oman Joint Forum Meeting.”

For those with access to the Internet, comments may be submitted at the following address: http://www.regulations.gov/search/Regs/home.html#home.

FOR FURTHER INFORMATION CONTACT: Abby Lindsay, Telephone (202) 647-8772.

SUPPLEMENTARY INFORMATION: In Section 2 of the U.S.-Oman Memorandum of Understanding on Environmental Cooperation, the United States and Oman announced the establishment of a Joint Forum on Environmental Cooperation. The mandate of the Joint Forum is to broaden and deepen effective cooperation on environmental issues between Oman and the United States. It was intended provide a venue for the two Governments to discuss ways in which they could work together to strengthen the capacity of Oman to protect and conserve the environment. The Joint Forum is expected to develop a Plan of Action towards meeting this goal.

The 2006-2008 Work Program identified priorities for environmental cooperation between the United States and Oman, with the goal of building human and institutional capacity in the management and conservation of natural resources. The priorities were: (a) Environmental laws and regulations, (b) Environmental impact assessments, (c) Environmental incentives, (d) Public participation in environmental protection, (e) Integrated water resources management and protection, (f) Coastal protection and preservation of marine resources, (g) Protected area management and conservation of flora and fauna, (h) Cleaner production and environmental technology, (i) Chemical hazardous waste management and disposal, and (j) Environmental disaster preparedness. Some indicative actions the U.S. and Oman have undertaken in these areas include workshops on environmental impact assessment, a regional workshop for CITES Management Authorities, and a course on public participation in environmental law. Ongoing work includes technical assistance to Oman on marine turtle conservation and cooperation on sustainable tourism in protected areas. The Department of the Interior, the Environmental Protection Agency, the United States Coast Guard, and others have been involved in implementing these activities. Officials from U.S. and Omani agencies will present and discuss their activities at the Joint Forum meeting.

In the 2011-2014 Plan of Action, we seek to build upon the progress made in the previous Work Program and anticipate defining four main priority areas for cooperation activities: Institutional and policy strengthening for effective implementation and enforcement of environmental laws, including natural resource-related laws; Biodiversity conservation and improved management of protected areas, and other ecologically important ecosystems; Improved private sector environmental performance; and Environmental education, transparency and public participation in environmental decision-making and enforcement. At the meeting, the Joint Forum will review cooperation activities and the two Governments are expected to sign the new Plan of Action.

Dated: December 9, 2010.
Willem H. Brakel,
Director, Office of Environmental Policy, Department of State.

[FR Doc. 2010-31504 Filed 12-14-10; 8:45 am]

BILLING CODE 4710-09-P